DEPARTMENT OF EDUCATION

Office of Special Education and Rehabilitative Services; Personnel Development to Improve Services and Results for Children with Disabilities

Catalog of Federal Domestic Assistance (CFDA) Number: 84.325D, 84.325K, and 84.325T.

AGENCY: Department of Education.

ACTION: Notice inviting applications for new awards for fiscal year (FY) 2010; correction.

SUMMARY: On June 14, 2010, we published in the Federal Register (75 FR 33593) a notice inviting applications for new awards for FY 2010 under certain Personnel Development to Improve Services and Results for Children with Disabilities competitions authorized under the Individuals with Disabilities Education Act. We are correcting the use of the word “scholar” in the Special Education Preservice Program Improvement Grants (84.325T) priority in the notice published on June 14, 2010 (75 FR 33599-33601) because scholars, as defined in 34 CFR 304.3(g), receive scholarship assistance while, under this priority, financial support is not available to students during any year of the project.

On page 33600, third column, paragraphs (a)(6)(i) and (a)(6)(ii), we remove the word “scholars” and replace it with the term “program graduates”. In addition, on page 33600, third column, we remove footnote number 22 that defines “scholar”. And finally, on page 33600, third column, paragraph (b)(2), and page 33601, first column, paragraph (g), we remove the word “scholars” and replace it with the term “students”.

FOR FURTHER INFORMATION CONTACT: Tina Diamond, U.S. Department of Education, 400 Maryland Avenue, SW., room 4094, Potomac Center Plaza, Washington, DC 20202-2600. Telephone: (202) 245-6674.

If you use a telecommunications device for the deaf (TDD), call the Federal Relay Service (FRS), toll-free, at 1-800-877-8339.

Accessible Format: Individuals with disabilities can obtain this document in an accessible format (e.g., braille, large print, audiotape, or computer diskette) on request to the contact person listed under the FOR FURTHER INFORMATION CONTACT section of this notice.

Electronic Access to This Document: You can view this document, as well as all other documents of this Department published in the Federal Register, in text or Adobe Portable Document Format (PDF) on the Internet at the following site: www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 25, 2010.
Alexa Posny,
Assistant Secretary for Special Education and Rehabilitative Services.

[FR Doc. 2010-16204 Filed 7-1-10; 8:45 am]

BILLING CODE 4000-01-P